DEPARTMENT OF THE INTERIOR

Fish and Wildlife Service

Notice of Receipt of Applications for Permit

The following applicants have applied for a permit to conduct certain activities with endangered species. This notice is provided pursuant to Section 10(c) of the Endangered Species Act of 1973, as amended (16 U.S.C. 1531, et seq.):

Applicant: Chicago Zoological Park, Brookfield Zoo, Brookfield, IL, PRT-805165.

The applicant requests a permit to import 50 blood, fecal and urine samples from 50 of the following animals: Black rhinoceros (Diceros bicornis), African wild dogs (Lycaon pictus), and Cheetah (Acinonyx jabatus). The samples are being collected by the Ministry of Environment and Tourism, Windhoek, Namibia and will be imported for scientific research.

Applicant: James Robbins, Harwood Heights, IL, PRT-027986.

The applicant requests a permit to import the sport-hunted trophy of one male bontebok (Damaliscus pygargus dorcas) culled from a captive herd maintained under the management program of the Republic of South Africa, for the purpose of enhancement of the survival of the species.

Applicant: John D. Pearson, Long Grove, IL, PRT-027538.

The applicant requests a permit to import the sport-hunted trophy of one male bontebok (Damaliscus pygargus dorcas) culled from a captive herd maintained under the management program of the Republic of South Africa, for the purpose of enhancement of the survival of the species.

Applicant: David B. Cull, Yanktown, SD, PRT-028159.

The applicant requests a permit to import the sport-hunted trophy of one male bontebok (Damaliscus pygargus dorcas) culled from a captive herd maintained under the management program of the Republic of South Africa, for the purpose of enhancement of the survival of the species.

Applicant: Smithsonian Institution, Washington, DC, PRT-027997.

The applicant requests a permit to import from Guyana study skins and associated frozen tissue samples obtained from five wild caught red siskin (Carduelis cuculatta). The specimens were collected and will be imported for scientific research.

Applicant: Ursula Bechert, Oregon State University, Corvallis, OR, PRT-023519.

The applicant requests a permit to import blood samples from Asian elephants (Elephas maximus) collected from captive-held specimens at the Bowmanville Zoo, Ontario, Canada, for scientific research.

Marine Mammal

The public is invited to comment on the following application for a permit to conduct certain activities with marine mammals. The application was submitted to satisfy requirements of the Marine Mammal Protection Act of 1972, as amended (16 U.S.C. 1361 et seq.) and the regulations governing marine mammals (50 CFR 18).

Applicant: Gordon F. Kolling, Hermosa, SD, PRT-028025.

The applicant requests a permit to import a polar bear (Ursus maritimus) sport-hunted from the Northern Beaufort sea polar bear population, Northwest Territories, Canada for personal use.

Applicant: William C. McClure, Pittsburgh, PA, PRT-027989.

The applicant requests a permit to import a polar bear (Ursus maritimus) sport-hunted from the Lancaster Sound polar bear population, Northwest Territories, Canada for personal use.

Applicant: George H. Brimhall, Paradise Valley, AZ, PRT-027988.

The applicant requests a permit to import a polar bear (Ursus maritimus) sport-hunted from the McClintock Channel polar bear population, Northwest Territories, Canada for personal use.

Applicant: John T. Shillingburg, Riviera Beach, FL, PRT-027987.

The applicant requests a permit to import a polar bear (Ursus maritimus) sport-hunted from the Northern Beaufort Sea polar bear population, Northwest Territories, Canada for personal use.

Applicant: Dennis Lord, Woodstock, GA, PRT-027525.

The applicant requests a permit to import a polar bear (Ursus maritimus) sport-hunted from the McClintock Channel polar bear population, Northwest Territories, Canada for personal use.

Applicant: Stanley S. Golub, Chester, NJ, PRT-028044.

The applicant requests a permit to import a polar bear (Ursus maritimus) sport-hunted from the Lancaster Sound polar bear population, Northwest Territories, Canada for personal use.

Applicant: Kevin Small, Bakersfield, CA, PRT-027926.

The applicant requests a permit to import a polar bear (Ursus maritimus) sport-hunted from the Lancaster Sound polar bear population, Northwest Territories, Canada for personal use.

Applicant: John Martin, Forest Hill, MD, PRT-022471.

The applicant requests a permit to import a polar bear (Ursus maritimus) sport-hunted from the Fox Basin polar bear population, Nunavut, Canada for personal use.

Written data or comments should be submitted to the Director, U.S. Fish and Wildlife Service, Office of Management Authority, 4401 North Fairfax Drive, Room 700, Arlington, Virginia 22203 and must be received by the Director within 30 days of the date of this publication.

Documents and other information submitted with these applications are available for review, subject to the requirements of the Privacy Act and Freedom of Information Act, by any party who submits a written request for a copy of such documents to the following office within 30 days of the date of publication of this notice: U.S. Fish and Wildlife Service, Office of Management Authority, 4401 North Fairfax Drive, Room 700, Arlington, Virginia 22203. Phone: (703/358-2104); FAX: (703/358-2281).

Dated: June 2, 2000.
Kristen Nelson,
Chief, Branch of Permits, Office of Management Authority.

[FR Doc. 00-14414 Filed 6-7-00; 8:45 am]

BILLING CODE 4310-55-P